ENVIRONMENTAL PROTECTION AGENCY

[FRL-9928-97-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1723.07; Importation of Nonroad Engines and Recreational Vehicles (Renewal); 40 CFR 85, 40 CFR part 89, 40 CFR part 90, 40 CR part 91, 40 CFR part 92, 40 CFR part 94, and 40 CFR part 1068; was approved without change on 5/20/2015; OMB Number 2060-0320; expires on 5/31/2016.

EPA ICR Number 0222.10; EPA's Light-Duty In-Use Vehicle Testing Program (Renewal); was approved with change on 5/14/2015; OMB Number 2060-0086; expires on 5/31/2018.

EPA ICR Number 1907.09; Recordkeeping and Reporting Requirements Regarding the Sulfur Content of Motor Vehicle Gasoline under the Tier 2 Rule (Final Rule for Tier 3) (Revision); 40 CFR 80, subpart O, 40 CFR 80.210, 40 CFR 80.270, 40 CFR 80.330, 40 CFR 80.340, 40 CFR 80.370, 40 CFR 80.380, 40 CFR 80.400, and 40 CFR 80.415; was approved without change on 5/13/2015; OMB Number 2060-0437; expires on 5/31/2018.

EPA ICR Number 2489.01; Willingness to Pay Survey for Salmon Recovery in the Willamette Watershed (New); was approved with change on 5/8/2015; OMB Number 2080-0081; expires on 5/31/2018.

EPA ICR Number 2410.03; NESHAP for Group I Polymers and Resins (Renewal); 40 CFR 63, subparts A and U; was approved without change on 5/7/2015; OMB Number 2060-0665; expires on 5/31/2018.

EPA ICR Number 1693.08; Plant-Incorporated Protectants; CBI Substantiation and Adverse Effects Reporting (Renewal); 40 CFR 174.71 and 40 CFR part 174.9; was approved without change on 5/6/2015; OMB Number 2070-0142; expires on 5/31/2018.

EPA ICR Number 1781.07; NESHAP for Pharmaceutical Production (Renewal); 40 CFR 63, subparts A and GGG; was approved without change on 5/6/2015; OMB Number 2060-0358; expires on 5/31/2018.

EPA ICR Number 1807.07; NESHAP for Pesticide Active Ingredient Production (Revision); 40 CFR 63, subpart A and 40 CFR 63, subpart MMM; was approved without change on 5/6/2015; OMB Number 2060-0370; expires on 6/30/2015.

EPA ICR Number 2031.07; Protection of Stratospheric Ozone: Request for Applications from Critical use Exemption for the Phase-out of Methyl Bromide (Change); 40 CFR 82; was approved without change on 5/5/2015; OMB Number 2060-0482; expires on 5/31/2018.

EPA ICR Number 1131.11; NSPS for Glass Manufacturing Plants (Renewal); 40 CFR 60 Subpart A and 40 CFR 60 Subpart CC; was approved with change on 5/4/2015; OMB Number 2060-0054; expires on 5/31/2018.

EPA ICR Number 1125.07; NESHAP for Beryllium Rocket Motor Fuel Firing (Renewal); 40 CFR 61, subparts A and D; was approved with change on 5/4/2015; OMB Number 2060-0394; expires on 5/31/2018.

Comment Filed

EPA ICR Number 2502.01; TSCA Sections 402 and Section 404 Training, Certification, Accreditation and Standards for Lead-Based Paint Activities and Renovation, Repair and Painting (Proposed Rule); 40 CFR 745.225; OMB filed comment on 5/6/2015.

Courtney Kerwin,
Acting Director, Collections Strategies Division.

[FR Doc. 2016-02359 Filed 2-5-16; 8:45 am]

BILLING CODE 6560-50-P